DEPARTMENT OF TRANSPORTATION

Solicitation of Nominations for Appointment to the Safety Oversight and Certification Advisory Committee (SOCAC)

AGENCY: Office of the Secretary of Transportation (OST), U.S. Department of Transportation (DOT).

ACTION: Solicitation of nominations for appointment to the SOCAC.

SUMMARY: The U.S. Secretary of Transportation is publishing this notice to solicit nominations for membership on the Safety Oversight and Certification Advisory Committee (SOCAC).

DATES: Nominations must be received no later than 5 p.m. Eastern Time on April 19, 2019.

ADDRESSES: Nominations must be submitted electronically (by Email) to Karen Lucke at Karen.Lucke@faa.gov. The subject line should state “SOCAC Nomination.”

FOR FURTHER INFORMATION CONTACT: Karen Lucke, Federal Aviation Administration, 800 Independence Avenue SW, Washington, DC 20591, telephone (312) 520-3195; email Karen.Lucke@faa.gov.

Background

This Committee's charter is established in accordance with the Federal Advisory Committee Act (Pub. L. 92-463) and Section 202, “Safety Oversight and Certification Advisory Committee,” of the FAA Reauthorization Act of 2018 (Pub. L. 115-254). The Committee provides information and recommendations to the Secretary of Transportation through the FAA Administrator and fosters industry collaboration in an open and transparent manner.

The advisory committee shall consult with, and ensure participation by the private sector, including representatives of: (1) General aviation; (2) commercial aviation; (3) aviation labor; (4) aviation maintenance, repair, and overhaul; (5) aviation, aerospace, and avionics manufacturing; (6) unmanned aircraft systems operators and manufacturers; (7) commercial space transportation industry; and (8) members of the public; and other interested parties.

Description of Duties

The SOCAC's duties shall include recommending consensus national goals, strategic objectives, and priorities for the most efficient, streamlined, and cost-effective certification and safety oversight processes in order to maintain the safety of the aviation system and, at the same time, allow the FAA to meet future needs and ensure that aviation stakeholders remain competitive in the global marketplace. Other duties shall include providing policy guidance recommendations for the FAA's certification and safety oversight efforts; providing appropriate legislative, regulatory, and guidance recommendations for the air transportation system and the aviation safety regulatory environment; and recommending performance metrics and goals to track and review the FAA and the regulated aviation industry on their progress towards streamlining certification reform, conducting flight standards reform, and carrying out regulation consistency efforts.

As directed in Public Law 115-254, the SOCAC will terminate on the last day of the 6-year period beginning on the date of the initial appointment of members of the advisory committee.

Additional duties are described in the SOCAC Charter.

Membership

The SOCAC shall comprise members appointed by the Secretary of Transportation upon recommendation by the FAA Administrator. All SOCAC members serve at the pleasure of the Secretary of Transportation. The SOCAC will have no more than 20 members. The SOCAC shall comprise the Administrator (or the Administrator's designee) and at least 11 individuals, each of whom represents at least one of the following interests: Transport aircraft and engine manufacturers; general aviation aircraft and engine manufacturers; avionics and equipment manufacturers; aviation labor organizations, including collective bargaining representatives of FAA aviation safety inspectors and aviation safety engineers; general aviation operators; air carriers; business aviation operators; unmanned aircraft systems manufacturers and operators; aviation safety management experts; aviation maintenance, repair, and overhaul; and airport owners and operators. Members are appointed for a 2-year term.

Each voting member will be an executive officer of the organization who has decision-making authority within the member's organization and can represent the interest of the organization, and enter into commitments on behalf of such organization. The SOCAC will have the ability to obtain necessary information from experts in the aviation and aerospace communities. The SOCAC shall have a membership size that enables the advisory committee to have substantive discussions and reach consensus on issues in a timely manner. Also, the SOCAC will have the appropriate expertise, including expertise in certification and risked-based safety oversight processes, operations, policy, technology, labor relations, training, and finance. Members serve without compensation. The employing organization bears all costs related to its members' participation.

The Secretary shall appoint non-voting members representing FAA safety oversight program offices. Nonvoting members may take part in deliberations of the advisory committee and provide input with respect to any final reports or recommendations of the Advisory Committee. Nonvoting members may not represent any stakeholder interest other than that of an FAA safety oversight program office. Non-voting members are appointed for a 2-year term.

Nomination Process

The Secretary is seeking individual nominations for membership to the SOCAC. Any interested person may nominate one or more qualified individuals for membership on the SOCAC. Self-nominations are also accepted. Nominations must include, in full, the following materials to be considered for SOCAC membership. Failure to submit the required information may disqualify a candidate from the review process.

a. A biography

b. A résumé or curriculum vitae

c. A one-page statement describing how the candidate will benefit the SOCAC, taking into account current membership and the candidate's unique perspective that will advance the conversation. This statement must also identify a primary and secondary interest to which the candidate's expertise best aligns.

Finally, candidates should state their previous experience on a Federal advisory committee and/or Aviation Rulemaking Committee (if any), their level of knowledge in their above stakeholder groups, and the size of their constituency they represent or are able to reach.

Evaluations will be based on the materials submitted.

Issued in Washington, DC, on March 25, 2019.
Elaine L. Chao,
Secretary.

[FR Doc. 2019-06114 Filed 3-28-19; 8:45 am]

BILLING CODE 4910-9X-P